DEPARTMENT OF COMMERCE

National Oceanic and Atmospheric Administration

[I.D. 080502G]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) and the Groundfish Subcommittee of the Scientific and Statistical Committee (SSC GF Subcommittee) will hold a working meeting which is open to the public.

DATES: The GMT and the SSC GF Subcommittee working meeting will begin Tuesday, August 27, 2002, at 10 a.m. and may go into the evening until business for the day is completed. The meeting will reconvene from 8 a.m. to noon on Wednesday, August 28.

ADDRESSES: The meeting will be held at the Shilo Inn, 11707 NE Airport Way, Portland, OR 97220; telephone: (503) 252-5800.

Council address: Pacific Fishery Management Council, 7700 NE Ambassador Place, Suite 200, Portland, OR 97220-1384.

FOR FURTHER INFORMATION CONTACT: Mr. John DeVore, Groundfish Fishery Management Coordinator; telephone: (503) 820-2280.

SUPPLEMENTARY INFORMATION: The primary purpose of the GMT and SSC GF Subcommittee meeting is to discuss a new yelloweye rockfish stock assessment and any other pertinent information in order to prepare final recommendations regarding groundfish harvest levels and management measures for 2003.

Although nonemergency issues not contained in this agenda may come before the GMT and SSC GF Subcommittee for discussion, those issues may not be the subject of formal GMT and SSC GF Subcommittee action during this meeting. GMT and SSC GF Subcommittee action will be restricted to those issues specifically listed in this notice and any issues arising after publication of this notice that require emergency action under section 305(c) of the Magnuson-Stevens Fishery Conservation and Management Act, provided the public has been notified of the GMT and SSC GF Subcommittee's intent to take final action to address the emergency.

Special Accommodations

The meeting is physically accessible to people with disabilities. Requests for sign language interpretation or other auxiliary aids should be directed to Ms. Carolyn Porter at (503) 820-2280 at least 5 days prior to the meeting date.

Dated: August 7, 2002.
Richard W. Surdi,
Acting Director, Office of Sustainable Fisheries, National Marine Fisheries Service.

[FR Doc. 02-20384 Filed 8-9-02; 8:45 am]

BILLING CODE 3510-22-S